DEPARTMENT OF HEALTH AND HUMAN SERVICES

Administration for Children and Families

Administration for Native Americans; Notice of Meeting

AGENCY: Administration for Children and Families, Department of Health and Human Services.

ACTION: Notice of tribal consultation.

SUMMARY: The Department of Health and Human Services, Administration for Children and Families, Administration for Native Americans (ANA) will host a Tribal Consultation to consult on the Community Native Language Coordination Initiative, an expansion of funding for ANA proposed in the President's fiscal year 2016 budget.

DATES: May 20, 2015.

ADDRESSES: 200 Independence Ave. SW., Washington, DC.

FOR FURTHER INFORMATION CONTACT: Lillian A. Sparks Robinson, Commissioner, Administration for Native Americans at 202-401-5590, by email at Lillian.sparks@acf.hhs.gov, or by mail at 370 L'Enfant Promenade SW., 2 West, Washington, DC 20447.

SUPPLEMENTARY INFORMATION: The President's Budget Proposal, released in February of 2015, would increase ANA's budget by $3.5 million. The proposed Community Native Language Coordination Initiative will build upon the successes of ANA's short-term, project-based funding to support community capacity building and systems development projects to ensure that high-quality language instruction, appropriate and culturally responsive curricula, professional development, and additional services and supports are aligned, implemented, and evaluated to create a seamless path for Native language acquisition across generations for educational and economic success. The Initiative will address gaps in community coordination and bring together key drivers of program effectiveness: strong community ties, integrated language/educational services, support services and interventions tailored to the specific community, high performing collaborations, and committed leaders and community champions.

We are interested in obtaining input from Tribal Leaders on eligibility criteria, funding levels, project duration, technical assistance needs, and potential measurable outcomes, among other things.

The ANA Tribal Consultation Session will be held on Wednesday, May 20, 2015, from 1 p.m. to 4:00 p.m.

Testimonies must be submitted no later than May 15, 2015, to: Lillian Sparks Robinson, Commissioner, Administration for Native Americans, 370 L'Enfant Promenade SW., Washington, DC 20447, anacommissioner@acf.hhs.gov. To register for the Consultation please visit: https://www.surveymonkey.com/s/2015ACFTribalConsultation.

Dated: April 20, 2015.
Lillian Sparks Robinson,
Commissioner, Administration for Native Americans.

[FR Doc. 2015-09557 Filed 4-23-15; 8:45 am]

BILLING CODE 4184-34-P